DEPARTMENT OF TRANSPORTATION

Surface Transportation Board

[Finance Docket No. 34079]

San Jacinto Rail Limited—Construction Exemption—and The Burlington Northern and Santa Fe Railway Company—Operation Exemption—Build-Out to the Bayport Loop Near Houston, Harris County, Texas

AGENCY: Surface Transportation Board, DOT.

ACTION: Notice of intent to prepare an Environmental Impact Statement.

SUMMARY: On August 30, 2001, the San Jacinto Rail Limited (San Jacinto) and The Burlington Northern and Santa Fe Railway (BNSF) filed a petition with the Surface Transportation Board (Board) pursuant to 49 U.S.C. 10502 for authority for construction by San Jacinto and operation by BNSF of a new rail line near Houston, Harris County, Texas. The project would involve approximately 12.8 miles of new rail line. Because the construction and operation of this project has the potential to result in significant environmental impacts, the Board's Section of Environmental Analysis (SEA) has determined that the preparation of an Environmental Impact Statement (EIS) is appropriate. The purpose of this Notice of Intent is to notify individuals and agencies interested in or affected by the proposed project of the decision to require an EIS. SEA will hold public scoping meetings as part of the EIS process. Meeting dates and locations will be announced at a later date.

SUPPLEMENTARY INFORMATION:

Background

The proposed project, known as the Bayport Loop Build-Out includes approximately 12.8 miles of new rail line connecting plastics and chemical production facilities located in the Bayport Industrial District in southeast Houston, Texas, with the former Galveston, Henderson and Houston Railroad (GH&H) line, now owned by the Union Pacific Railroad Company (UP), near the southeast corner of Ellington Field at Texas State Highway 3. As a result of the new construction, BNSF would have access to the facilities located in the Bayport Loop using the new line, and the facilities would be provided with a choice of rail providers in the area. The EIS will analyze the potential impacts of the proposed route, the “no-build” alternative, and possible alternative routes.

Environmental Review Process

The National Environmental Policy Act (NEPA) process is intended to assist the Board and the public in identifying and assessing the potential environmental consequences of a proposed action before a decision on the proposed action is made. SEA is responsible for ensuring that the Board complies with NEPA and related environmental statutes. The first stage of the EIS process is scoping. Scoping is an open process for determining the scope of environmental issues to be addressed in the EIS. SEA will soon develop and make available a draft scope of study for the EIS and provide a period for the submission of written comments on it. Concurrently, scoping meetings will be held to provide further opportunities for public involvement and input into the scoping process. The dates and locations for the scoping meetings will be announced at a later date. Following the issuance of a draft scope and the comment period, SEA will issue a final scope of study for the EIS.

After issuing the final scope of study, SEA will prepare a Draft EIS (DEIS) for the project. The DEIS will address those environmental issues and concerns identified during the scoping process. It will also contain SEA's preliminary recommendations for environmental mitigation measures. The DEIS will be made available upon its completion for public and agency review and comment. SEA will prepare a Final EIS (FEIS) that considers comments on the DEIS from the public and agencies. In reaching its decision in this case, the Board will take into account the DEIS, the FEIS, and all environmental comments that are received.

FOR FURTHER INFORMATION CONTACT: Dana G. White, Section of Environmental Analysis, Surface Transportation Board, 1925 K Street, NW, Washington, DC 20412-0001, or call SEA's toll-free number for this project at 1-888-229-7857 (TDD for the hearing impaired 1-800-877-8339). The website for the Surface Transportation Board is www.stb.dot.gov.

By the Board, Victoria Rutson, Chief, Section of Environmental Analysis.
Vernon A. Williams,
Secretary.

[FR Doc. 01-24398 Filed 9-28-01; 8:45 am]

BILLING CODE 4915-00-P